DEPARTMENT OF TRANSPORTATION

Federal Aviation Administration

14 CFR Part 39

[Docket No. 2000-CE-10-AD]

RIN 2120-AA64

Airworthiness Directives; Raytheon Aircraft Company Beech Model 1900D Airplanes

AGENCY: Federal Aviation Administration, DOT.

ACTION: Notice of proposed rulemaking (NPRM).

SUMMARY: This document proposes to adopt a new airworthiness directive (AD) that would apply to certain Raytheon Aircraft Company (Raytheon) Beech Model 1900D airplanes that are equipped with a KLN-90B Global Positioning System (GPS) incorporated in accordance with AlliedSignal Supplemental Type Certificate (STC) SA00245WI-D. The proposed AD would require rewiring the KLN-90B GPS to eliminate the possibility of inconsistent NAV “FLAG” displays. The proposed AD is the result of an instance where the copilot's NAV “FLAG” display was based on the pilot's NAV source validity. The actions specified by the proposed AD are intended to assure that the copilot's NAV “FLAG” displays are based on the copilot's selected NAV source. Inconsistent NAV “FLAG” displays could cause the copilot to make decisions based on using an invalid GPS source without knowing it was invalid.

DATES: The Federal Aviation Administration (FAA) must receive any comments on this rule on or before December 29, 2000.

ADDRESSES: Submit comments in triplicate to FAA, Central Region, Office of the Regional Counsel, Attention: Rules Docket No. 2000-CE-10-AD, 901 Locust, Room 506, Kansas City, Missouri 64106. Comments may be inspected at this location between 8 a.m. and 4 p.m., Monday through Friday, holidays excepted.

Service information that applies to the proposed AD may be obtained from the Raytheon Aircraft Company, PO Box 85, Wichita, Kansas 67201-0085; telephone: (800) 625-7043 or (316) 676-4556. This information also may be examined at the Rules Docket at the address above.

FOR FURTHER INFORMATION CONTACT: Todd Dixon, Aerospace Engineer, Wichita Aircraft Certification Office, FAA, 1801 Airport Road, Mid-Continent Airport, Wichita, Kansas 67209; telephone: (316) 946-4152; facsimile: (316) 946-4407.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-10-AD.” We will date stamp and mail the postcard back to you.

Discussion

What events have caused this AD? The FAA has received a report of inconsistent NAV “FLAG” displays on the KLN-90B Global Positioning System (GPS) that was installed on a Raytheon Model Beech 1900D airplane. This system is installed in accordance with AlliedSignal Supplemental Type Certificate (STC) SA00245WI-D, and could be installed on Raytheon Beech Model 1900D airplanes, serial numbers UE-156 through UE-299.

In this situation, the copilot had the KLN-90B GPS selected as the NAV source and the pilot did not have a valid NAV source selected. This caused the flight director command bar to disappear from the copilot's electronic attitude director indicator (EADI), and the copilot received an inconsistent NAV “FLAG”.

What are the consequences if the condition is not corrected? Inconsistent NAV “FLAG” displays could cause the copilot to make decisions based on an invalid GPS source without knowing it was invalid.

Relevant Service Information

Is there service information that applies to this subject? Raytheon has issued Mandatory Service Bulletin SB 34-3222, Issued: January, 2000.

What are the provisions of this service bulletin? The service bulletin includes procedures for rewiring the KLN-90B GPS to eliminate the possibility of inconsistent NAV “FLAG” displays.

The FAA's Determination and an Explanation of the Provisions of the Proposed AD

What has FAA decided? After examining the circumstances and reviewing all available information related to the incidents described above, we have determined that:

• The unsafe condition referenced in this document exists or could develop on other Raytheon Beech Model 1900D airplanes of the same type design;

• The actions specified in the previously-referenced service information should be accomplished on the affected airplanes; and

• AD action should be taken in order to correct this unsafe condition.

What would the proposed AD require? This proposed AD would require rewiring the KLN-90B GPS to eliminate the possibility of inconsistent NAV “FLAG” displays.

Cost Impact

How many airplanes would the proposed AD impact? We estimate that the proposed AD affects 82 airplanes in the U.S. registry.

What would be the cost impact of the proposed AD on owners/operators of the affected airplanes? We estimate the following costs to accomplish the proposed modification:

Labor cost | Parts cost | Total cost per airplane | Total cost on U.S. airplane operators
4 workhours × $60 per hour = $240 | No parts required for the rewiring | $240 per airplane | $19,680
Note: Warranty credit will be allowed on all affected airplanes to the extent specified in the service bulletin.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2000-CE-10-AD

(a) What airplanes are affected by this AD? This AD affects Beech Model 1900D airplanes, serial numbers UE-156 through UE-299, that are:

(1) certificated in any category; and

(2) equipped with a KLN-90B Global Positioning System (GPS) incorporated in accordance with AlliedSignal Supplemental Type Certificate (STC) SA00245WI-D.

(b) Who must comply with this AD? Anyone who wishes to operate any of the above airplanes must comply with this AD.

(c) What problem does this AD address? The actions specified by this AD are intended to assure that the copilot's NAV “FLAG” displays are based on the copilot's selected NAV source. Inconsistent NAV “FLAG” displays could cause the copilot to make decisions based on an invalid GPS source without knowing it was invalid.

(d) What actions must I accomplish to address this problem? To address this problem, you must accomplish the following:

Action | Compliance time | Procedures
Rewire the KLN-90B Global Positioning System to eliminate the possibility of inconsistent NAV “FLAG” displays | Within the next 400 hours time-in-service (TIS) after the effective date of this AD, unless already accomplished | Accomplish in accordance with the ACCOMPLISHMENT INSTRUCTIONS section of Raytheon Mandatory Service Bulletin SB 34-3222, Issued: January, 2000.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Todd Dixon, Aerospace Engineer, Wichita Aircraft Certification Office, FAA, 1801 Airport Road, Mid-Continent Airport, Wichita, Kansas 67209; telephone: (316) 946-4152; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from the Raytheon Aircraft Company, PO Box 85, Wichita, Kansas 67201-0085; telephone: (800) 625-7043 or (316) 676-4556. You may examine these documents at FAA, Central Region, Office of the Regional Counsel, 901 Locust, Room 506, Kansas City, Missouri 64106.

Issued in Kansas City, Missouri, on October 27, 2000.
James E. Jackson,
Acting Manager, Small Airplane Directorate, Aircraft Certification Service.

[FR Doc. 00-28094 Filed 11-1-00; 8:45 am]

BILLING CODE 4910-13-P